DEPARTMENT OF JUSTICE

Notice of Filing of Consent Decree Pursuant to the Clean Air Act, CERCLA and EPCRA

Notice is hereby given that on March 26, 2012, a proposed Consent Decree in United States and State of Kansas v. National Cooperative Refinery Association, No. 6:12-cv-01110-EFM-JPO, was filed with the United States District Court for the District of Kansas. The Consent Decree settles the claims of the United States' and the State of Kansas set forth in the complaint for civil penalties and injunctive relief against the National Cooperative Refinery Association relating to its refinery in McPherson, Kansas, and its related storage facility in Conway, Kansas, based on violations of the refinery's Clean Air Act Title V permit, the CAA's New Source Performance Standards (NSPS), and Risk Management Plan regulations, and CERCLA and EPCRA release notification requirements. Under the terms of the Consent Decree NCRA shall pay $700,000 in penalty, spend approximately $730,000 in performing Supplemental Environmental Projects and implement injunctive relief directed primarily at insuring future compliance with the Risk Management Program requirements for these facilities. $225,000 of this penalty will be paid to the State of Kansas.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States and State of Kansas v. National Cooperative Refinery Association, No. 6:12-cv-01110-EFM-JPO (D. Kansas), Department of Justice Case Number 90-5-1-1-06025/3.

During the public comment period, the Consent Decree may be examined at the Office of the United States Attorney, District of Kansas, 301 North Main St. Wichita, Kansas, 67212. The Settlement Agreement may also be examined on the following Department of Justice Web site, http://www.usdoj.gov/enrd/Consent_Decrees.html. A copy of the Consent Decree may also be obtained by mail from the Consent Decree Library, P.O. Box 7611, U.S. Department of Justice, Washington, DC 20044-7611 or by faxing or emailing a request to “Consent Decree Copy” (eescdcopy.enrd@usdoj.gov), fax no. (202) 514-0097, phone confirmation number (202) 514-5271. In requesting a copy from the Consent Decree Library, please enclose a check in the amount of $22.75 (25 cents per page reproduction cost) payable to the U.S. Treasury.

Maureen Katz,
Assistant Section Chief.

[FR Doc. 2012-7714 Filed 3-30-12; 8:45 am]

BILLING CODE 4410-15-P